DEPARTMENT OF DEFENSE

Office of the Secretary

Extension of Currently Approved Collection; Comment Request

AGENCY: Office of the Secretary of Defense.

ACTION: Notice.

In compliance with Section 3506(c)(2)(A) of the Paperwork Reduction Act of 1995, the Office of Economic Adjustment announces the proposed extension of a public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by November 1, 2004.

ADDRESSES: Written comments and recommendations on the proposed information collection should be sent to the Director, Office of Economic Adjustment, 400 Army Navy Drive, Suite 200, Arlington, VA 22202-4704.

FOR FURTHER INFORMATION CONTACT: To request more information on this proposed information collection or to obtain a copy of the proposal, please write to the above address or call the Director, Office of Economic Adjustment (OEA) at (703) 604-6020.

Title and OMB Number: Base Realignment and Closure (BRAC) Military Base Reuse Status; OMB Number 0790-0003.

Needs and Uses: The information collection requirement is necessary to evaluate and measure program performance through civilian job creation and type of redevelopment at former military installations. The respondents to the annual survey (formerly semi-annual) are the single points of contact at the local level responsible for overseeing redevelopment efforts. This data is collected to provide OEA accurate information regarding civilian reuse of former military bases, and thus information on the results of its grant-making. The collected information is incorporated into an Annual Report to Congress.

Affected Public: Business or Other For-Profit; Federal Government; State, Local, or Tribal Government.

Annual Burden Hours: 75.

Number of Respondents: 75.

Responses Per Respondent: 1.

Average Burden Per Response: 1 hour.

Frequency: Annually.

SUPPLEMENTARY INFORMATION:

Summary of Information Collection

The information collection is used for the Annual Report to Congress as authorized by the Defense Economic Adjustment, Diversification, Conversion, and Stabilization Act of 1990, Public Law 101-510, 10 USC 2391(c), and Executive Order 12788. The data form asks respondents to provide information for 8 data fields per parcel describing reuse of the base, including new tenants, zoning, leasing, square feet, and number of new jobs.

Dated: August 25, 2004.
L.M. Bynum,
Alternate OSD Federal Register Liaison Officer, Department of Defense.

[FR Doc. 04-19811 Filed 8-30-04; 8:45 am]

BILLING CODE 5001-06-M